DEPARTMENT OF AGRICULTURE

Submission for OMB Review; Comment Request

August 5, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by September 9, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: National Agroforestry Survey.

OMB Control Number: 0535-NEW.

Summary of Collection: The primary objective of the National Agricultural Statistics Service (NASS) is to collect, prepare and issue State and national estimates of crop and livestock production, prices, and disposition; as well as economic statistics, environmental statistics related to agriculture and also to conduct the Census of Agriculture.

The survey will collect data whether the operator uses any of five agroforestry practices typically used for conservation: Windbreaks, Silvopasture, Riparian Forest Buffers, Alley Cropping, as well as Forest Farming & Multi-story Cropping.

Windbreaks are linear plantings of trees and shrubs designed to provide economic, environmental and community benefits. The primary purpose of most windbreaks is to slow the wind which creates a more beneficial condition for soils, crops, livestock, wildlife and people. Silvopasture is the deliberate integration of trees and grazing livestock operations on the same land. These systems are intensively managed for both forest products and forage, providing both short- and long-term income sources.

A riparian forest buffer is an area adjacent to a stream, lake, or wetland that contains a combination of trees, shrubs, and/or other perennial plants and is managed differently from the surrounding landscape, primarily to provide conservation benefits.

Forest farming is the cultivation of high-value crops under the protection of a managed tree canopy. In some parts of the world, this is called multi-story cropping and when used on a small scale in the tropics it is sometimes called home gardening.

Alley cropping is defined as the planting of rows of trees and/or shrubs to create alleys within which agricultural or horticultural crops are produced. The trees may include valuable hardwood veneer or lumber species; fruit, nut or other specialty crop trees/shrubs; or desirable softwood species for wood fiber production.

Need and Use of the Information: NASS would plan and conduct the survey and deliver access to a dataset or responses to approved staff from USDA-Forestry Service, who will publish the results of the survey. This project is conducted as a cooperative effort with the U. S. Department of Agriculture's Forestry Service—National Agroforestry Center. Funding for this survey is being provided by the U.S. Department of Agriculture's Forestry Service—National Agroforestry Center.

Description of Respondents: Farmers and Ranchers.

Number of Respondents: 11,800.

Frequency of Responses: Once.

Total Burden Hours: 9,550.

Levi S. Harrell,
Departmental Information Collection Clearance Officer.

[FR Doc. 2021-16996 Filed 8-9-21; 8:45 am]

BILLING CODE 3410-20-P